DEPARTMENT OF LABOR

Employment and Training Administration

[TA-W-83,036; TA-W-83,036A]

Manpower Group; Working On-Site at IBM Corporation; Camp Hill, Pennsylvania; Manpower Group; Working On-Site at IBM Corporation; Mechanicsburg, Pennsylvania; Amended Certification Regarding Eligibility To Apply for Worker Adjustment Assistance

In accordance with Section 223 of the Trade Act of 1974, as amended (“Act”), 19 U.S.C. 2273, the Department of Labor issued a Certification of Eligibility to Apply for Worker Adjustment Assistance on October 17, 2013, applicable to workers of Manpower Group, working on-site at IBM Corporation, Camp Hill, Pennsylvania. The Department's notice of determination was published in the Federal Register on November 6, 2013 (78 FR 66782).

At the request of a dislocated worker, the Department reviewed the certification for workers of the subject firm. The workers were engaged in activities related to the supply of global analysis, forecasting, planning, parts ordering and quality control for IBM.

The amendment investigation confirmed that workers of Manpower Group, working on-site at IBM Corporation, Mechanicsburg, Pennsylvania were separated due to the same acquisition of services that led to worker separations at the Camp Hill, Pennsylvania facility. The investigation also confirmed that workers of Manpower Group at both locations were sufficiently under the operational control of IBM to be considered leased workers.

The amended notice applicable to TA-W-83,036 is hereby issued as follows:

All workers of Manpower Group, working on-site at IBM Corporation, Camp Hill, Pennsylvania (TA-W-83,036) and Manpower Group, working on-site at IBM Corporation, Mechanicsburg, Pennsylvania, who became totally or partially separated from employment on or after August 28, 2012 through October 17, 2015, and all workers in the group threatened with total or partial separation from employment on the date of certification through two years from the date of certification, are eligible to apply for adjustment assistance under Chapter 2 of Title II of the Trade Act of 1974, as amended.

Signed in Washington, DC this 25th day of March, 2014.
Michael W. Jaffe.
Certifying Officer, Office of Trade Adjustment Assistance.

[FR Doc. 2014-07746 Filed 4-7-14; 8:45 am]

BILLING CODE 4510-FN-P